ENVIRONMENTAL PROTECTION AGENCY

[ER-FRL-9040-9]

Environmental Impact Statements; Notice of Availability

Responsible Agency: Office of Federal Activities, General Information (202) 564-7156 or https://www2.epa.gov/nepa/.

Weekly receipt of Environmental Impact Statements

Filed 08/13/2018 through 08/17/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180187, Draft, GSA, CA, Otay Mesa Modernization and Expansion, Comment Period Ends: 10/09/2018, Contact: Osmahn Kadri 415-522-3617

EIS No. 20180188, Draft, USFS, ID, Crow Creek Pipeline Project Draft Environmental Impact Statement, Comment Period Ends: 11/23/2018, Contact: Mike Duncan 208-847-0375

EIS No. 20180189, Draft Supplement, NRC, LA, Nureg 137 Supplement 59, Comment Period Ends: 10/09/2018, Contact: Elaine Keegan 301-415-8517

EIS No. 20180190, Draft, USFS, CA, Stanislaus National Forest Over-Snow Vehicle (OSV) Use Designation, Comment Period Ends: 10/09/2018, Contact: Beth Martinez 209-288-6307

EIS No. 20180191, Final, USFS, PR, El Yunque National Forest Plan Revision EIS, Review Period Ends: 10/23/2018, Contact: Pedro Rios 305-306-3805

Dated: August 21, 2018.
Robert Tomiak,
Director, Office of Federal Activities.

[FR Doc. 2018-18331 Filed 8-23-18; 8:45 am]

BILLING CODE 6560-50-P